DEPARTMENT OF ENERGY

Federal Energy Regulatory Commission

[Docket No. CP08-75-000]

Texas Eastern Transmission, LP; Notice of Request Under Blanket Authorization

February 26, 2008.

Take notice that on February 15, 2008, Texas Eastern Transmission, LP (Texas Eastern), 5400 Westheimer Court, Houston, Texas 77056-5310, filed in Docket No. CP08-75-000, a prior notice request pursuant to sections 157.205 and 157.212 of the Federal Energy Regulatory Commission's regulations under the Natural Gas Act for authorization to construct and operate a new receipt point and to receive natural gas, located in Beauregard Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TTY, (202) 502-8659.

Specifically, Texas Eastern proposes to design and construct a new receipt point to receive natural gas from Cheniere Creole Trail Pipeline, L.P. (Cheniere), consisting of dual 14-inch hot taps on Line No. 14, an existing 30-inch side valve on Line No. 18, electronic gas measurement equipment, and a gas chromatograph. Texas Eastern states that Cheniere will be installing the connecting piping, which will be owned and operated by Texas Eastern. Texas Eastern estimates the cost of construction to be $435,235. Texas Eastern asserts that Cheniere will reimburse Texas Eastern for all costs associated with constructing such facilities. Texas Eastern states that the new receipt point will provide Texas Eastern with the ability to receive up to 500 million cubic feet per day of natural gas from Cheniere into Texas Eastern's pipeline system.

Any questions regarding the application should be directed to Garth Johnson, General Manager, Certificates & Reporting, Texas Eastern Transmission, LP, P.O. Box 1642, Houston, Texas 77251-1642, call (713) 627-5415 or fax (713) 627-5947.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-4161 Filed 3-4-08; 8:45 am]

BILLING CODE 6717-01-P